FEDERAL COMMUNICATIONS COMMISSION

47 CFR Part 73

[DA 04-1416; MB Docket No. 04-202, RM-10985]

Radio Broadcasting Services; Tomahawk, WI

AGENCY: Federal Communications Commission.

ACTION: Proposed rule.

SUMMARY: The Audio Division requests comments on a petition filed by Results Broadcasting of Rhinelander, Inc., proposing the allotment of Channel 265C3 at Tomahawk, Wisconsin, as the community's second local FM transmission service. Channel 265C3 can be allotted to Tomahawk in compliance with the Commission's minimum distance separation requirements with a site restriction of 8.5 kilometers (5.3 miles) west-northwest to avoid a short-spacing to the licensed and construction permit sites of Station WOBE(FM), Channel 264C1, Crystal Falls, Michigan. The coordinates for Channel 265C3 at Tomahawk are 46-30-01 North Latitude and 89-49-50 West Longitude. Since Tomahawk is located within 320 kilometers (200 miles) of the U.S.-Canadian border, concurrence of the Canadian government has been requested.

DATES: Comments must be filed on or before July 19, 2004, reply comments on or before August 3, 2004.

ADDRESSES: Federal Communications Commission, Washington, DC 20554. In addition to filing comments with the FCC, interested parties should serve the petitioner, or its counsel or consultant, as follows: Mark Blacknell, Esq., Womble, Carlyle, Sandridge & Rice, PLLC, 1401 Eye Street, NW., 7th Floor, Washington, DC 20005 (Counsel for Petitioner).

FOR FURTHER INFORMATION CONTACT: Sharon P. McDonald, Media Bureau, (202) 418-2180.

SUPPLEMENTARY INFORMATION: This is a synopsis of the Commission's Notice of Proposed Rule Making, MB Docket No. 04-202, adopted May 26, 2004, and released May 28, 2004. The full text of this Commission decision is available for inspection and copying during normal business hours in the FCC Reference Information Center (Room CY-A257), 445 12th Street, SW., Washington, DC. The complete text of this decision may also be purchased from the Commission's copy contractor, Qualex, International, Portals II, 445 12th Street, SW., Room CY-B402, Washington, DC 20054, telephone 202-863-2893, facsimile 202-863-2898, or via e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts. For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1.The authority citation for part 73 continues to read as follows:

Authority: 47 U.S.C. 154, 303, 334 and 336.

§ 73.202 [Amended]

2. Section 73.202(b), the Table of FM Allotments under Wisconsin, is amended by adding Channel 265C3 at Tomahawk.

Federal Communications Commission.
John A. Karousos,
Assistant Chief, Audio Division, Media Bureau.

[FR Doc. 04-13810 Filed 6-17-04; 8:45 am]

BILLING CODE 6712-01-P